DEPARTMENT OF COMMERCE

National Oceanic and Atmospheric Administration

RIN 0648-XA448

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 107th Scientific and Statistical Committee (SSC) and its 151st Council meeting to take actions on fishery management issues in the Western Pacific Region.

DATES: The SSC will meet on June 13-15, 2011, between 8:30 a.m. and 5 p.m.; the Council's Executive and Budget Standing Committee will meet on June 15, 2011, between 3 p.m. and 5 p.m.; the 151st Council meeting will meet on June 16-18, 2011, between 9 a.m. and 6 p.m. All meetings will be held in Honolulu, HI. For specific times and agendas, see SUPPLEMENTARY INFORMATION.

ADDRESSES: The 107th SSC meeting, Council Executive and Budget Standing Committee and 151st Council meeting will be held at the Waikiki Beach Marriott Resort & Spa, 2552 Kalakaua Avenue, Honolulu, HI 96815-3699; telephone: (808) 922 6611.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 107th SSC Meeting

8:30 a.m.-5 p.m., Monday, June 13, 2011

1. Introductions

2. Approval of Draft Agenda and Assignment of Rapporteurs

3. Status of the 106th SSC Meeting Recommendations

4. Report From the Pacific Islands Fisheries Science Center Director

5. Program Planning

A. Non-Commercial Data Collection Options

B. Public Comment

C. SSC Discussion and Recommendations

6. Insular Fisheries

A. Annual Catch Limits (Action Items)

1. All Islands Acceptable Biological Catch (ABC) Analysis for Coral Reef Fin-fish Fisheries Annual Catch Limits (ACLs)

a. Hawaii

b. American Samoa

c. Mariana Archipelago

2. Hawaii

a. Kona Crab

b. Deepwater Shrimp

c. Lobster

d. Hawaii Akule/Opelu Catch History and Potential ABC

e. Precious Coral ABCs

f. Mollusks

g. Report on ACL Working Groups on MHI Bottomfish

i. P-star Report

ii. Socio-Economic Ecological and Management Uncertainty (SEEM) Report

3. Mariana Archipelago

a. Lobster

b. Deepwater Shrimp

c. Mollusks

4. American Samoa

a. Spiny Lobster

b. Mollusks

B. Bottomfish (Essential Fish Habitat/Habitat Areas of Particular Concern (EFH/HAPC))

a. Western Pacific Stock Assessment Review (WPSAR)

b. Options

C. Plan Team Report

D. Advisory Panel Report

E. Regional Ecosystem Advisory Committee (REAC) Report

F. Public Comment

G. SSC Discussion and Recommendations

8:30 a.m.-5 p.m., Tuesday, June 14, 2011

7. Pelagic Fisheries

A. Action Items

1. Options Paper on Shallow-Set Longline Fishery for Swordfish

2. Overfishing of Pacific Bluefin

3. ABC for Hawaii Squid Fisheries

B. Western and Central Pacific Fisheries Commission (WCPFC) Conservation and Management Measure for Bigeye

1. Catch Limits for All Fisheries

2. Trading Catch (Within and Between Regional Fishery Management Organizations (RFMOs))

3. Fish Aggregating Device (FAD) Management

C. Economic Impacts of 2010 Western and Central Pacific Ocean (WCPO) Bigeye Closure

D. American Samoa and Hawaii Longline Quarterly Reports

E. International Fisheries Meetings

1. Inter-American Tropical Tuna Commission (IATTC) Science Committee

2. IATTC Technical Meeting on Sharks

3. IATTC General Advisory Committee (GAC) & Science Advisory Subcommittee (SAS) Meeting

F. Pelagic Plan Team Report

G. Public Comment

H. SSC Discussion and Recommendations

8:30 a.m.-5 p.m., Wednesday, June 15, 2011

9. Other Meetings & Workshops

10. Other Business

A. 108th SSC Meeting

11. Summary of Recommendations to the Council

151st Council Meeting

3 p.m.-5 p.m., Wednesday, June 15, 2011

Executive and Budget Standing Committee

9 a.m.-6 p.m., Thursday, June 16, 2011

1. Introductions

2. Approval of the 151st Council Meeting Agenda

3. Approval of the 150th Council Meeting Minutes

4. Executive Director's Report

Guest Speaker: To be announced

5. Agency Reports

A. National Marine Fisheries Service

1. Pacific Islands Regional Office

2. Pacific Islands Fisheries Science Center

B. NOAA Regional Counsel

C. U.S. Fish and Wildlife Service

D. Enforcement

1. U.S. Coast Guard

2. NMFS Office for Law Enforcement

3. NOAA General Counsel for Enforcement and Litigation

E. NOAA Coral Reef Conservation Program

F. Public Comment

G. Council Discussion and Action

6. American Samoa Archipelago

A. Motu Lipoti

B. Fono Report

C. Enforcement Issues

D. ACLs for Mollusks and Lobsters (Action item)

E. Marine Conservation Plan

F. Community Fisheries Development

G. Community Activities and Issues

H. Education and Outreach Initiatives

I. SSC Recommendations

J. Public Comment

K. Council Discussion and Action

7. Mariana Archipelago

A. Arongo Flaeey

B. Isla Informe

C. Legislative Report

D. Enforcement Issues

E. ACLs for Lobster, Shrimp, Mollusks (Action item)

F. Report on Commonwealth Submerged Lands Legislation

G. Community Activities and Issues

1. Community Monitoring Activities

2. Shoreline Access Restrictions in Relation to Fishermen Deaths

H. Update on Military Activities

I. Education and Outreach Initiatives

J. Marine Conservation Plans

1. Commonwealth of the Northern Mariana Islands (CNMI) (Expires August 2011) (Action item)

2. Guam (Expired) (Action item)

K. SSC Recommendations

L. Public Comment

M. Council Discussion and Action

8. Protected Species

A. Endangered Species Act (ESA) and Marine Mammal Protection Act (MMPA) Issues

B. IUCN Hawaii Green Turtle Assessment

C. NMFS/MCBI Meeting on Seabird and Pelagic Fish

D. Report on the International Sea Turtle Symposium

E. STAC Recommendations

F. SSC Recommendations

G. Public Comment

H. Council Discussion and Action

9. Public Comment on Non-Agenda Items

9 a.m.-6 p.m., Friday, June 17, 2011

9 a.m.-1 p.m.

10. Hawaii Archipelago

A. Moku Pepa

B. Legislative Report

C. Enforcement Issues

D. Annual Catch Limits (Action Items)

1. Main Hawaiian Islands Bottomfish

a. ACL Working Group Reports

i. P-star Level of Risk

ii. SEEM—Social, Economic, Ecological and Management Uncertainty

iii. ACL Specifications for MHI Deep 7 Bottomfish

2. Report on Kona Crab Fishery

3. Report on Heterocarpus Sp. Catch History

4. Hawaii Akule/Opelu Time Series

5. Precious Coral ACLs

E. Bottomfish Essential Fish Habitat and Habitat of Particular Concern (EFH/HAPC) (Action Item)

1. WPSAR Report

2. Options for Hawaii Bottomfish Management Unit Species EFH/HAPC

3. Status Report on American Samoa, Guam, CNMI and Pacific Remote Island Area Bottomfish EFH/HAPC Review

F. Sustainable Fisheries Fund Marine Conservation Plan (Action Item)

G. Community Activities and Issues

1. Hawaii Regulatory Review Initiative

2. Aha Moku

H. Report on the Bottomfish Highliners Meeting

I. Plan Team Report

J. Advisory Panel Report

K. REAC Report

L. SSC Recommendations

M. Public Comment

N. Council Discussion and Action

2 p.m.-6 p.m.

11. Program Planning and Research

A. Annual Catch Limit Analysis for Coral Reef Fin-Fish Fisheries (Action Item)

B. Offshore Aquaculture

1. Report on Experimental Permit for Offshore Aquaculture Project

2. Limited Entry for Aquaculture (Action Item)

C. Non-Commercial Data Collection Options (Action Item)

D. Coastal and Marine Spatial Planning

E. Report on 5th International Marine Debris Conference

F. Hawaii, Regional, National & International Education and Outreach

1. Report on Q-Mark Survey

G. Council Comments on Federal Register Notices

1. Paperwork Reduction Act

H. Status of Funding for Pacific Islands Region (PIR) Research

I. Migratory Bird Treaty Act Permit

J. Report on Community Development Project Program (CDPP) and Marine Education and Training (MET) Grant Review

K. Report on Status of Community Development Program (CDP) Process Development

L. Advisory Group Recommendations

M. SSC Recommendations

N. Public Hearing

O. Council Discussion and Action

Fishers Forum, 6:30 p.m.-9 p.m. (Location TBD)

9 a.m.-6 p.m., Saturday, June 18, 2011

Guest Speaker: Dr. Charles Karnella, WCPFC Chairman Perspective on Conservation and Management Measures for WCPFC 8 in December 2011.

12. Pelagic & International Fisheries

A. Action Items

1. Options Paper on Shallow-Set Longline Fishery for Swordfish

2. Options for Longline Access to the American Samoa Large Pelagic Fishing Vessel Area Closures

3. American Samoa Pelagic Fishing Vessel Landing Requirements

4. Overfishing of Pacific Bluefin

5. WCPFC Conservation and Management Measure for Bigeye Tuna

a. Catch Limits for All Fisheries

b. Trading Catches (Within and Between RFMOs)

c. FAD Management

6. ABC for Squid

B. American Samoa and Hawaii Longline Quarterly Reports

C. International Fisheries Meetings/Items

1. IATTC Science Committee

2. IATTC Technical Meeting on Sharks

3. IATTC GAC/SAS Meeting

4. WCPFC U.S. Advisory Committee

D. Pelagic Plan Team Recommendations

E. SSC Recommendations

F. Public Hearing

G. Council Discussion and Action

13. Administrative Matters

A. Financial Reports

B. Administrative Reports

C. Standard Operating Practices and Procedures (SOPP) Review and Changes

D. Council Family Changes

E. Meetings and Workshops

F. Other Business

G. Executive and Budget Standing Committee Recommendations

H. Public Comment

I. Council Discussion and Action

14. Other Business

Non-emergency issues not contained in this agenda may come before the Council for discussion and formal Council action during its 151st meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 1801 et seq.

Dated: May 19, 2011.
Tracey L. Thompson,
Acting Director, Office of Sustainable Fisheries, National Marine Fisheries Service.

[FR Doc. 2011-12708 Filed 5-23-11; 8:45 am]

BILLING CODE 3510-22-P